DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr. CFM, Acting Section Chief, Engineering Management Section, Mitigation Division, 500 C Street SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground Modified | Communities affected
Chatham County, North Carolina and Incorporated Areas
FEMA Docket Nos. D-7646 and D-7660
B. Everett Jordan Lake | For its entire shoreline | +238 | Chatham County (Unincorporated Areas), Town of Pittsboro.
Bear Creek | Approximately 0.6 mile upstream of Edwards Hill Church Road | +456 | Chatham County (Unincorporated Areas).
| Approximately 2.7 miles upstream of confluence of Bear Creek Tributary 1 | +479
Bear Creek (into Indian Creek) | At the confluence of Indian Creek (into Deep River) | +242 | Chatham County (Unincorporated Areas).
| Approximately 400 feet upstream of Bonlee Carbonton Road | +391
Bear Creek Tributary 1 | At the confluence with Bear Creek | +457 | Chatham County (Unincorporated Areas).
| Approximately 0.5 mile upstream of confluence with Bear Creek | +459
Beaver Creek | At the Chatham and Wake County boundary | +238 | Chatham County (Unincorporated Areas).
| At the confluence with B. Everett Jordan Lake | +238
Beaver Creek Tributary 1 | At the confluence with Beaver Creek and B. Everett Jordan Lake | +238 | Chatham County (Unincorporated Areas).
| Approximately 1.3 miles upstream of Tody Goodwin Road | +275
Beaver Creek Tributary 2 | At the confluence with Beaver Creek and B. Everett Jordan Lake | +238 | Chatham County (Unincorporated Areas).
| Approximately 1.1 miles upstream of Tody Godwin Road | +251
Beaver Creek Tributary 3 | At the confluence with Beaver Creek and B. Everett Jordan Lake | +238 | Chatham County (Unincorporated Areas).
| Approximately 0.6 mile upstream of the confluence with Beaver Creek and B. Everett Jordan Lake | +263
Blood Run Creek | At Chatham and Randolph County boundary | +495 | Chatham County (Unincorporated Areas), Town of Siler City.
| Approximately 0.3 mile upstream of U.S. 64 | +594
Brooks Creek | Approximately 2.2 miles upstream of the confluence with Haw River | +383 | Chatham County (Unincorporated Areas), Town of Pittsboro.
| Approximately 0.6 mile upstream of Old Graham Road | +444
Brooks Creek Tributary 1 | At the confluence with Brooks Creek | +384 | Chatham County (Unincorporated Areas), Town of Pittsboro.
| Approximately 970 feet upstream of Russells Chapel Church Road | +397
Brush Creek | At the Chatham and Randolph County boundary | +499 | Chatham County (Unincorporated Areas), Town of Siler City.
| At the Chatham and Randolph County boundary | +552
Buckhorn Creek | At the confluence with Cape Fear River | +155 | Chatham County (Unincorporated Areas).
| At the Harris Reservoir Dam | +177
Buckhorn Creek Tributary 1 | At the confluence with Buckhorn Creek | +168
| Approximately 0.6 mile upstream of the confluence with Buckhorn Creek | +237 | Chatham County (Unincorporated Areas).
Buckhorn Creek Tributary 2 | At the confluence with Buckhorn Creek | +175
| Approximately 0.7 mile upstream of the confluence with Buckhorn Creek | +222 | Chatham County (Unincorporated Areas).
Buckhorn Creek Tributary 3 | At the confluence with Buckhorn Creek | +177 | Chatham County (Unincorporated Areas).
| Approximately 0.1 mile upstream of the Railroad | +191
Buckhorn Creek Tributary 4 | At the confluence with Harris Reservoir | +232 | Chatham County (Unincorporated Areas).
| Approximately 0.4 mile upstream of the confluence with the Harris Reservoir | +282
Bush Creek | At the confluence with B. Everett Jordan Lake | +238 | Chatham County (Unincorporated Areas).
| Approximately 1.4 miles upstream of Big Woods Road | +253
Cape Fear River | At the Chatham and Harnett County boundary | +152 | Chatham County (Unincorporated Areas).
| At the confluence with Deep River and Haw River | +177
Cedar Creek | At the confluence with Deep River | +233 | Chatham County (Unincorporated Areas).
| Approximately 1.2 miles upstream of Henry Oldham Road | +248
Cedar Creek Tributary 1 | At the confluence with Cedar Creek | +233 | Chatham County (Unincorporated Areas).
| Approximately 1.4 miles upstream of Henry Oldham Road | +252
Cedar Creek Tributary 2 | At the confluence with Cedar Creek Tributary 1 | +236 | Chatham County (Unincorporated Areas).
| Approximately 0.4 mile upstream of Unnamed Road | +259
Collins Creek | At the confluence with the Haw River | +402 | Chatham County (Unincorporated Areas).
| Approximately 0.45 mile upstream of the confluence of Persimmons Nursery Branch at the Chatham and Orange County boundary | +451
Crooked Creek | At the confluence with B. Everett Jordan Lake | +238 | Chatham County (Unincorporated Areas).
| At the Chatham and Durham County boundary | +239
Crows Creek | At the confluence with Terrells Creek | +369 | Chatham County (Unincorporated Areas).
| Approximately 550 feet upstream of Eagle Point Road | +406
Cub Creek | At the confluence with B. Everett Jordan Lake | +238 | Chatham County (Unincorporated Areas).
| Approximately 1.0 mile upstream of Nature Trail Road | +271
Deep River | At the confluence with Cape Fear River | +177 | Chatham County (Unincorporated Areas).
| At the Chatham, Moore, and Lee County boundaries | +250
Deep River Tributary 5 | At the confluence with Deep River | +240 | Chatham County (Unincorporated Areas).
| Approximately 2,200 feet upstream of Alton King Road | +274
Deep River Tributary 6 | At the confluence with Deep River Tributary 5 | +240 | Chatham County (Unincorporated Areas).
| Approximately 0.7 mile upstream of Alton King Road | +252
Deep River Tributary 7 | At the confluence with Deep River | +240 | Chatham County (Unincorporated Areas).
| Approximately 1.6 miles upstream of Alton King Road | +300
Deep River Tributary 8 | At the confluence with Deep River | +240 | Chatham County (Unincorporated Areas).
| Approximately 0.5 mile upstream of Alton King Road | +245
Dry Creek | At the confluence with Haw River | +337 | Chatham County (Unincorporated Areas).
| Approximately 2.9 miles upstream of Silk Hope Gum Springs Road | +532
East Price Creek | At the Chatham and Orange County boundary | +402 | Chatham County (Unincorporated Areas).
| Approximately 0.6 mile upstream of the Chatham County boundary | +426
Folkner Branch | At the confluence with B. Everett Jordan Lake | +238 | Chatham County (Unincorporated Areas).
| Approximately 500 feet upstream of Farrells Creek Road | +256
Georges Creek | At the confluence with Deep River | +225 | Chatham County (Unincorporated Areas).
| Approximately 2.5 miles upstream of Rosser Road | +260
Georges Creek Tributary 1 | At the confluence with Georges Creek | +225 | Chatham County (Unincorporated Areas).
| Approximately 0.8 mile upstream of the confluence with Georges Creek | +244
Georges Creek Tributary 2 | At the confluence with Georges Creek | +225 | Chatham County (Unincorporated Areas).
| Approximately 1.1 miles upstream of the confluence with Georges Creek | +237 |
Greenbriar Creek | At the confluence with Rocky River | +586 | Chatham County (Unincorporated Areas).
| At the Alamance and Chatham County boundary | +632 |
Gulf Creek | At the confluence with Cape Fear River | +172 | Chatham County (Unincorporated Areas)
| Approximately 1.7 miles upstream of Unnamed Road | +191 |
Harlands Creek | At the confluence with Rocky River | +331 | Chatham County (Unincorporated Areas), Town of Pittsboro.
| Approximately 800 feet upstream of U.S. 64 | +428 |
Harlands Creek | Approximately 800 feet upstream of U.S. 64 | +428 | Chatham County (Unincorporated Areas), Town of Pittsboro.
| Approximately 1.6 miles upstream of U.S. 64 | +445 |
Harlands Creek | At the confluence with Rocky River | +331 | Chatham County (Unincorporated Areas), Town of Pittsboro.
| Approximately 800 feet upstream of U.S. 64 | +428 |
Harris Reservoir | For its entire shoreline | +232 | Chatham County (Unincorporated Areas).
Harts Creek | At the confluence with Bear Creek | +357 | Chatham County (Unincorporated Areas)
| Approximately 1.6 miles upstream of the confluence with Bear Creek | +403 |
Haw River | At the confluence with Deep River and Cape Fear River | +177 | Chatham County (Unincorporated Areas), Town of Pittsboro
| Approximately 0.9 mile upstream of the confluence of Terrells Creek (West) at the Alamance and Chatham County boundary | +400 |
Herndon Creek | At the confluence with Bush Creek | +238 | Chatham County (Unincorporated Areas).
| Approximately 0.8 mile upstream of Jack Bennett Road | +251 |
Hill Creek | At the confluence with Robeson Creek | +369 | Chatham County (Unincorporated Areas), Town of Pittsboro.
| Approximately 300 feet upstream of X-Campbell Road | +511 | Chatham County (Unincorporated Areas), Town of Pittsboro.
Indian Creek (into Deep River) | At the confluence of Deep River | +240 | Chatham County (Unincorporated Areas).
| Approximately 0.2 mile upstream of Goldston Glendon Road | +336 |
Indian Creek (into Jordan Lake) | Approximately 1.1 miles upstream of State Highway 751 | +238 | Chatham County (Unincorporated Areas).
| At the confluence with B. Everett Jordan Lake | +238 |
Kit Creek | At the confluence with Northeast Creek | +238 | Chatham County (Unincorporated Areas).
| At Chatham and Wake County | +243 |
Lacy Creek | At the confluence with Rocky River | +539 | Chatham County (Unincorporated Areas), Town of Siler City.
| Approximately 0.7 mile upstream of confluence with Rocky River | +565 |
Landrum Creek | At the confluence with Rocky River | +337 | Chatham County (Unincorporated Areas).
| Approximately 500 feet upstream of Pleasant Hill Church Road | +500 |
Landrum Creek Tributary | At the confluence with Landrum Creek | +456 | Chatham County (Unincorporated Areas).
| Approximately 0.9 mile upstream of Jay Shambley Road | +468 |
Lick Branch | Approximately 1,200 feet upstream of State Highway 751 | +238 | Chatham County (Unincorporated Areas).
| At the confluence with B. Everett Jordan Lake | +238 |
Lick Creek | At the confluence with Terrells Creek (West) | +424 | Chatham County (Unincorporated Areas).
| Approximately 2.4 miles upstream of the confluence with Terrells Creek (West) | +473 |
Line Creek | At the confluence with Deep River | +250 | Chatham County (Unincorporated Areas).
| Approximately 1.0 mile upstream of Goldston Carbanton Road | +271 |
Little Beaver Creek | Approximately 1.0 mile upstream of the confluence with B. Everett Jordan Lake | +238 | Chatham County (Unincorporated Areas).
| At the confluence with B. Everett Jordan Lake | +238 | Chatham County (Unincorporated Areas)
Little Beaver Creek Tributary | Approximately 0.7 mile upstream of the confluence with Little Beaver Creek | +238 | Chatham County (Unincorporated Areas).
| At the confluence with Little Beaver Creek | +238 |
Little Brush Creek | At the Chatham and Randolph County boundary | +454 | Chatham County (Unincorporated Areas). Town of Siler City
| Approximately 1.6 miles upstream of Jim Paige Road | +543 |
Little Indian Creek | At the confluence with Indian Creek (into Deep River) | +240 | Chatham County (Unincorporated Areas).
| Approximately 900 feet upstream of Goldston Glendon Road | +378
Long Branch | At the confluence with Dry Creek | +448 | Chatham County (Unincorporated Areas).
| Approximately 1.5 miles upstream of State Route 87 | +497
Loves Creek | At the confluence with Rocky River | +501 | Chatham County (Unincorporated Areas), Town of Siler City.
| Approximately 0.1 mile upstream of Pine Forest South Drive | +605
Loves Creek Tributary 1 | At the confluence with Loves Creek | +557 | Town of Siler City.
| Approximately 400 feet upstream of U.S. 64 | +620
Loves Creek Tributary 2 | At the confluence with Loves Creek Tributary 1 | +585 | Chatham County (Unincorporated Areas), Town of Siler City.
| Approximately 0.6 mile upstream of West Dolphin Street | +666
Loves Creek Tributary 3 | At the confluence with Loves Creek Tributary 1 | +592 | Town of Siler City.
| Approximately 400 feet upstream of Garden Avenue | +648
Meadow Branch | At the confluence with Terrells Creek | +381 | Chatham County (Unincorporated Areas).
| Approximately 350 feet upstream of Jones Ferry Road | +389
Meadow Creek | At the confluence with Rocky River | +437 | Chatham County (Unincorporated Areas).
| Approximately 1.3 miles upstream of Rives Chapel Church Road | +506
Mill Branch | At the confluence with B. Everett Jordan Lake | +238 | Chatham County (Unincorporated Areas).
| Approximately 0.3 mile upstream of the confluence with B. Everett Jordan Lake | +244
Morgan Creek | At the Chatham and Durham County boundary | +238 | Chatham County (Unincorporated Areas).
| At the confluence with B. Everett Jordan Lake | +238
Morris Branch | At the confluence with Panther Creek | +238 | Chatham County (Unincorporated Areas).
| Approximately 0.7 mile upstream of the confluence with Panther Creek | +249
Mud Lick Creek | At the confluence with Rocky River | +544 | Chatham County (Unincorporated Areas).
| Approximately 0.6 mile upstream of Silk Hope Liberty Road | +597
Nancy Branch | At the confluence with Panther Creek | +238 | Chatham County (Unincorporated Areas).
| Approximately 0.4 mile upstream of the confluence with Panther Creek | +239
New Hope River Tributary 1 | At the confluence with B. Everett Jordan Lake | +238 | Chatham County (Unincorporated Areas).
| Approximately 0.3 mile upstream of B. Everett Jordan Lake | +247
North Prong Rocky River | At the confluence with Rocky River | +587 | Chatham County (Unincorporated Areas).
| At the Alamance and Chatham County boundary | +648
Northeast Creek | At the confluence with B. Everett Jordan Lake | +238 | Chatham County (Unincorporated Areas).
| At the Chatham and Durham County boundary | +240
Overcup Creek | At the confluence with B. Everett Jordan Lake | +238 | Chatham County (Unincorporated Areas).
| Approximately 1.1 miles upstream of B. Everett Jordan Lake | +253
Overcup Creek Tributary | At the confluence with Overcup Creek | +238 | Chatham County (Unincorporated Areas).
| Approximately 1.0 mile upstream of Overcup Creek | +245
Panther Creek | At the confluence with Northeast Creek | +238 | Chatham County (Unincorporated Areas).
| Approximately 0.6 mile upstream of the confluence of Morris Branch | +244
Parkers Creek | At the confluence with B. Everett Jordan Lake | +238 | Chatham County (Unincorporated Areas).
| Approximately 0.4 mile upstream of Big Woods Road | +287
Persimmons Nursery Branch | At the confluence with Collins Creek | +448 | Chatham County (Unincorporated Areas).
| Approximately 550 feet upstream of Collins Mountain Road | +450
Pokeberry Creek | At the confluence with Haw River | +297 | Chatham County (Unincorporated Areas).
| Approximately 3.5 miles upstream of Andrews Store Road | +558
Reedy Fork | At the Chatham and Randolph County boundary | +499 | Chatham County (Unincorporated Areas), Town of Siler City.
| Approximately 0.4 mile upstream of Wrenn Smith Road | +527
Robeson Creek | At the confluence with the Haw River and B. Everett Jordan Lake | +238 | Chatham County (Unincorporated Areas), Town of Pittsboro.
| Approximately 0.3 mile upstream of the Power Line Easement | +481 |
Robeson Creek Tributary 1 | At the confluence with Robeson Creek | +297 | Chatham County (Unincorporated Areas), Town of Pittsboro.
| Approximately 0.3 mile upstream of Prince Creek Road | +486
Robeson Creek Tributary 2 | At the confluence with Robeson Creek Tributary 1 | +349 | Chatham County (Unincorporated Areas), Town of Pittsboro.
| Approximately 475 feet upstream of Tom Womble Road | +502
Robeson Creek Tributary 3 | At the confluence with Robeson Creek | +352 | Chatham County (Unincorporated Areas), Town of Pittsboro.
| Approximately 0.3 mile upstream of Oakwood Street | +419 |
Robeson Creek Tributary 4 | At the confluence with Robeson Creek | +377 | Chatham County (Unincorporated Areas), Town of Pittsboro.
| Approximately 320 feet upstream of State Route 87 | +497
Robeson Creek Tributary 5 | At the confluence with Robeson Creek Tributary 4 | +391 | Chatham County (Unincorporated Areas), Town of Pittsboro.
| Approximately 1.0 mile upstream of Arthur Alston Road | +471
Rocky Branch (into Deep River) | At the confluence with Deep River | +204 | Chatham County (Unincorporated Areas).
| Approximately 0.5 mile upstream of the confluence with Deep River | +222
Rocky Branch (into Georges Creek) | At the confluence with Georges Creek | +232 | Chatham County (Unincorporated Areas).
| Approximately 0.6 mile upstream of Rosser Road | +256
Rocky Ford Branch | At the confluence with White Oak Branch | +238 | Chatham County (Unincorporated Areas).
| Approximately 0.7 mile upstream of Luther Road | +244
Rocky River | At the confluence with Deep River | +209 | Chatham County (Unincorporated Areas), Town of Siler City.
| At the Chatham and Randolph County boundary | +643
Rocky River Tributary 1 | At the confluence with Rocky River | +507 | Chatham County (Unincorporated Areas), Town of Siler City.
| Approximately 1.0 mile upstream of Siler City Snow Camp Road | +630
Sandy Branch | At the confluence with Bear Creek | +410 | Chatham County (Unincorporated Areas).
| Approximately 200 feet upstream of State Route 902 | +425
Shaddox Creek | At the confluence with Haw River | +177 | Chatham County (Unincorporated Areas).
| Approximately 2.5 miles upstream of U.S. Route 1 | +214
South Fork | At the Alamance and Chatham County boundary | +525 | Chatham County (Unincorporated Areas).
| Approximately 0.5 mile upstream of Moon Lindley Road | +550
Stinking Creek | At the confluence with B. Everett Jordan Lake | +238 | Chatham County (Unincorporated Areas).
| Approximately 450 feet upstream of Talon Drive | +279
Terrells Creek | At the confluence with Haw River | +369 | Chatham County (Unincorporated Areas).
| At the Chatham and Orange County boundary | +420
Terrells Creek (West) | At the confluence with Haw River | +397 | Chatham County (Unincorporated Areas).
| Approximately 1.5 miles upstream of Woody Store Road | +530
Tick Creek | At the confluence with Rocky River | +407 | Chatham County (Unincorporated Areas).
| Approximately 300 feet upstream of Siler City Glendon Road | +555
Tick Creek Tributary | At the confluence with Tick Creek | +468 | Chatham County (Unincorporated Areas).
| Approximately 0.5 mile upstream of the confluence with Tick Creek | +480
Tick Creek Tributary 1 | At the confluence with Tick Creek | +498 | Chatham County (Unincorporated Areas), Town of Siler City.
| Approximately 0.9 mile upstream of Mount Vernon Springs Road | +531
Tributary A | At the confluence with Indian Creek (into Deep River) | +240 | Chatham County (Unincorporated Areas).
| Approximately 350 feet upstream of Little Indian Creek Road | +258
Turkey Creek | At the confluence with Robeson Creek | +324 | Chatham County (Unincorporated Areas).
| Approximately 0.3 mile upstream of Unnamed Road | +452
Tysons Creek | At the Chatham and Moore County boundary | +322 | Chatham County (Unincorporated Areas).
| Approximately 0.4 mile upstream of Mert McManess Road | +414
Tysons Creek Tributary | At the confluence with Tysons Creek | +341 | Chatham County (Unincorporated Areas).
| Approximately 0.8 mile upstream of State Route 42 | +386
Varnell Creek | At the confluence with Rocky River | +485 | Chatham County (Unincorporated Areas), Town of Siler City.
| Approximately 2.3 miles upstream of U.S. 64 | +528 |
Weaver Creek | At the confluence with B. Everett Jordan Lake | +238 | Chatham County (Unincorporated Areas).
| Approximately 2.1 miles upstream of B. Everett Jordan Lake | +297 |
Weaver Creek Tributary | At the confluence with Weaver Creek | +238 | Chatham County (Unincorporated Areas).
| Approximately 1.3 miles upstream of the confluence with Weaver Creek | +245 |
Welch Creek | At the confluence with Tick Creek | +466 | Chatham County (Unincorporated Areas).
| Approximately 0.6 mile upstream of the confluence with Tick Creek | +478 |
West Price Creek | At the Chatham/Orange County boundary | +467 | Chatham County (Unincorporated Areas).
| Approximately 1,930 feet upstream of the Chatham/Orange County boundary | +480
White Oak Creek | At the Chatham and Wake County boundary | +238 | Chatham County (Unincorporated Areas).
| At the confluence with B. Everett Jordan Lake | +238 |
White Oak Creek Tributary 1 | At the confluence with White Oak Creek and B. Everett Jordan Lake | +238 | Chatham County (Unincorporated Areas).
| Approximately 0.9 mile upstream of the confluence with White Oak Creek and B. Everett Jordan Lake | +253
Wilkinson Creek | At the confluence with the Haw River | +330 | Chatham County (Unincorporated Areas).
| Approximately 1.1 miles upstream of Gilmore Road | +575
Windfall Creek | At the confluence with B. Everett Jordan Lake | +238 | Chatham County (Unincorporated Areas).
| Approximately 0.3 mile upstream of the confluence with B. Everett Jordan Lake | +248
*National Geodetic Vertical Datum
#Depth in feet above ground
+North American Vertical Datum
ADDRESSES:
Town of Pittsboro:
Maps available for inspection at the Pittsboro Planning Office, Town Hall, 635 East Street, Pittsboro, North Carolina.
Town of Siler City:
Maps available for inspection at the Siler City Zoning Office, Town Hall, 311 North Second Avenue, Siler City, North Carolina.
Chatham County (Unincorporated Areas):
Maps available for inspection at the Chatham County Planning Department, 80-A East Street, Pittsboro, North Carolina.
Orange County, North Carolina and Incorporated Areas
(FEMA Docket Nos. D-7622, D-7640, D-7660, and D-7662)
Back Creek | At the Alamance County/Orange County boundary | +559 | Orange County (Unincorporated Areas).
| Approximately 300 feet downstream of Carr Store Road | +648
Back Creek Tributary 3 | At the confluence with Back Creek | +575 | Orange County (Unincorporated Areas).
| Approximately 300 feet downstream of Harmony Church Road | +646 |
Battle Branch | At the confluence with Bolin Creek | +263 | Town of Chapel Hill.
| Approximately 1.5 miles upstream of the confluence with Bolin Creek | +387
Bolin Creek | At the confluence with Little Creek and Booker Creek | +255 | Orange County (Unincorporated Areas), Town of Carrboro, Town of Chapel Hill.
| Approximately 1,250 feet upstream of Talbryn Way | +578 |
Booker Creek | At the confluence with Little Creek and Bolin Creek | +255 | Town of Chapel Hill.
| Approximately 600 feet upstream of Airport Road | +479
Buckhorn Branch | At the confluence with Jones Creek | +483 | Orange County (Unincorporated Areas), Town of Carrboro.
| Approximately 300 feet upstream of dam | +509 |
Cane Creek (North) | Approximately 1,000 feet upstream of the confluence with Haw River | +429 | Orange County (Unincorporated Areas).
| Approximately 125 feet upstream of Borland Road | +606
Cane Creek (North) Tributary No. 5 | At the confluence with Cane Creek (North) | +543 | Orange County (Unincorporated Areas).
| Approximately 1,200 feet upstream of Orange Grove Road | +575
Cates Creek | Approximately 1,800 feet upstream of the confluence with Eno River | +499 | Town of Hillsborough, Orange County (Unincorporated Areas).
| Approximately 0.8 mile upstream of U.S. Highway 40 | +659 |
Cates Creek Tributary | At the confluence with Cates Creek | +595 | Town of Hillsborough, Orange County (Unincorporated Areas).
| Approximately 0.5 mile upstream of Oak Ridge Drive | +663 |
Cedar Fork | At North Lakeshore Drive | +309 | Town of Chapel Hill.
| Approximately 600 feet upstream of Kingston Drive | +554
Chapel Creek | Approximately 2,100 feet upstream of the confluence with Morgan Creek | +261 | Town of Chapel Hill.
| Approximately 350 feet upstream of South Road | +419
Collins Creek | At the Orange County/Chatham County boundary | +451 | Orange County (Unincorporated Areas).
| Approximately 0.4 mile upstream of Big Still Road | +536
Collins Creek Tributary 1 | At the confluence with Collins Creek | +487 | Orange County (Unincorporated Areas).
| Approximately 650 feet upstream of Gait Way | +524
Crabtree Creek | At the confluence with Sevenmile Creek | +539 | Orange County (Unincorporated Areas).
| Approximately 1.8 miles upstream of the confluence with Sevenmile Creek | +602
Crow Branch | At the confluence with Booker Creek | +400 | Town of Chapel Hill.
| Approximately 0.5 mile upstream of dam | +500
Cub Creek | Approximately 250 feet downstream of the Orange County/Chatham County boundary | +257 | Orange County (Unincorporated Areas).
| Approximately 200 feet upstream of the Orange County/Chatham County boundary | +265
Dry Creek | Approximately 250 feet upstream of the confluence with Eno River | +552 | Orange County (Unincorporated Areas).
| Approximately 0.9 mile upstream of the confluence with Eno River | +589
East Fork Eno River | Approximately 215 feet upstream of Carr Store Road (NC 1352) | +628 | Orange County (Unincorporated Areas).
| Approximately 100 feet downstream of NC 86 | +668
East Fork Eno River Tributary 1 | Approximately 0.3 mile upstream of the confluence with East Fork Eno River | +595 | Orange County (Unincorporated Areas).
| Approximately 1.1 miles upstream of the confluence with East Fork Eno River | +627
East Fork Eno River Tributary 2 | Approximately 0.5 mile upstream of the confluence with East Fork Eno River | +618 | Orange County (Unincorporated Areas).
| Approximately 0.5 mile upstream of Carr Store Road (NC 1352) | +655
Forrest Creek | Approximately 200 feet upstream of NC 57 | +595 | Orange County (Unincorporated Areas).
| Approximately 125 feet upstream of Phelps Road | +644
Haw River | At the Orange/Chatham County boundary | +415 | Orange County (Unincorporated Areas).
| Approximately 1.2 miles upstream of East Greensboro-Chapel Hill Road | +429
High Rock Creek | Approximately 500 feet upstream of the confluence with Eno River | +561 | Orange County (Unincorporated Areas).
| Approximately 1,500 feet upstream of North Efland Cedar Grove Road | +640
Jones Creek | Approximately 0.4 mile upstream of the confluence with Bolin Creek | +482 | Town of Carrboro, Orange County (Unincorporated Areas).
| Approximately 0.6 mile upstream of Old NC 86 | +571
Lake Michael Tributary | At the confluence with Mill Creek | +580 | Orange County (Unincorporated Areas).
| Approximately 1,300 feet upstream of Lancaster Road | +693
Lake Michael Tributary 2 | At the confluence with Lake Michael Tributary | +637 | Orange County (Unincorporated Areas).
| Approximately 400 feet north of U.S. 70 | +694
Lick Creek | Approximately 750 feet downstream of Gray Road | +545 | Orange County (Unincorporated Areas).
| Approximately 1,600 feet upstream of Holly Ridge Road | +576
Little Creek (Chapel Hill) | At the Orange County/Durham County boundary | +249 | Town of Chapel Hill.
| Approximately 1,000 feet downstream of the confluence with Booker Creek and Bolin Creek | +253
Little Creek (Chapel Hill) Tributary 3 | At the confluence with Little Creek (Chapel Hill) | +251 | Town of Chapel Hill.
| At Elderberry Drive | +310
Little River North Fork | Approximately 280 feet upstream of NC 57 | +580 | Orange County (Unincorporated Areas).
| Approximately 1,350 feet upstream of Hester Road | +671
Little River North Fork Tributary 2 | At the confluence with Little River North Fork | +591 | Orange County (Unincorporated Areas).
| Approximately 1.1 miles upstream of Gates Road | +607
Little River North Fork Tributary 3 | At the confluence with Little River North Fork | +544 | Orange County (Unincorporated Areas).
| Approximately 0.7 mile upstream of Sneed Road | +564
Little River South Fork | Approximately 200 feet upstream of NC 57 | +552 | Orange County (Unincorporated Areas).
| Approximately 60 feet upstream of Hawkins Road | +637
McGowan Creek | Approximately 1,600 feet upstream of the confluence with Eno River | +549 | Orange County (Unincorporated Areas).
| Approximately 300 feet upstream of Frazier Road | +690
Meeting of the Waters Creek | At the confluence of Morgan Creek | +262 | Town of Chapel Hill.
| Approximately 0.6 mile upstream of Woodbine Drive | +341
Mill Creek | At the confluence with Lake Michael Tributary | +580 | Orange County (Unincorporated Areas).
| Approximately 1.3 miles upstream of Mill Creek Road | +658
Mill Creek Tributary | At the confluence with Mill Creek | +613 | Orange County (Unincorporated Areas).
| Approximately 0.5 mile upstream of Lee Street | +656
Morgan Creek | Approximately 2.7 miles downstream of the Orange County/Chatham County boundary | +238 | Orange County (Unincorporated Areas), Town of Carrboro, Town of Chapel Hill.
| Approximately 50 feet downstream of Dairyland Road | +559
Mountain Creek | Approximately 1,100 feet upstream of the confluence with New Hope Creek | +474 | Orange County (Unincorporated Areas).
| Approximately 1.8 miles upstream of the confluence with New Hope Creek | +506
New Hope Creek | Approximately 200 feet upstream of Old NC 86 | +497 | Orange County (Unincorporated Areas).
| Approximately 1.5 miles upstream of Arthur Minnis Road | +529
New Hope Creek Tributary 1 | Approximately 400 feet downstream of the Orange County/Durham County boundary | +264 | Orange County (Unincorporated Areas), Town of Chapel Hill.
| Approximately 1,800 feet upstream of confluence with Dry Branch | +297
Price Creek | At the confluence with University Lake | +358 | Orange County (Unincorporated Areas).
| Approximately 350 feet upstream of Damascus Church Road | +359
Rays Creek | At the confluence with Little River South Fork | +593 | Orange County (Unincorporated Areas).
| Approximately 1.1 miles upstream of Walnut Grove Church Road | +632
Rays Creek Tributary | At the confluence with Rays Creek | +607 | Orange County (Unincorporated Areas).
| Approximately 1.0 mile upstream of Walnut Grove Church Road | +628
Rhodes Creek | Approximately 850 feet upstream of Cornwallis Road | +449 | Orange County (Unincorporated Areas).
| Approximately 1.2 miles upstream of Cornwallis Road | +507
Sevenmile Creek | Approximately 350 feet upstream of Interstate 85 | +533 | Orange County (Unincorporated Areas).
| Approximately 0.9 mile upstream of Pender Drive | +622
Sevenmile Creek Tributary 1 | At the confluence with Sevenmile Creek | +539 | Orange County (Unincorporated Areas).
| Approximately 1.5 miles upstream of the confluence with Sevenmile Creek | +598
Sevenmile Creek Tributary 2 | At the confluence with Sevenmile Creek | +591 | Orange County (Unincorporated Areas).
| Approximately 1,350 feet upstream of Bushy Cook Road | +642
South Hyco Creek | At the Caswell County/Orange County boundary | +589 | Orange County (Unincorporated Areas).
| Approximately 0.95 mile upstream of County boundary | +642
South Hyco Creek Tributary 8 | At the Person County/Orange County boundary | +603 | Orange County (Unincorporated Areas).
| Approximately 0.5 mile upstream of County boundary | +620 |
Stagg Creek | At the Alamance/Orange County boundary | +606 | Orange County (Unincorporated Areas).
| Approximately 3,000 feet upstream of Atkins Road | +639 |
Strouds Creek | Approximately 600 feet upstream of the confluence with Eno River | +485 | Orange County (Unincorporated Areas).
| Approximately 2,000 feet upstream of NC 86 | +659 |
Strouds Creek Tributary 1 | Approximately 1,760 feet downstream of NC 57 | +590 | Orange County (Unincorporated Areas).
| Approximately 1,080 feet upstream of Phelps Road | +656
Strouds Creek Tributary 2 | At the confluence with Strouds Creek | +519 | Orange County (Unincorporated Areas).
| Approximately 0.7 mile upstream of Miller Road | +574 |
Strouds Creek Tributary 3 | At the confluence with Strouds Creek | +551 | Town of Hillsborough, Orange County (Unincorporated Areas)
| Approximately 0.5 mile upstream of NC 57 | +636 |
Terrells Creek | At the Orange County/Chatham County boundary | +421 | Orange County (Unincorporated Areas).
| Approximately 2.2 miles upstream of the County boundary | +498 |
Tributary 1 to Sevenmile Creek | At the confluence with Sevenmile Creek Tributary 2 | +627 | Orange County (Unincorporated Areas).
Tributary 2 | Approximately 950 feet upstream of Bushy Cook Road | +631 | Orange County (Unincorporated Areas).
Toms Creek | Approximately 50 feet upstream of NC 54 | +418 | Town of Carrboro.
| Approximately 700 feet upstream of Rainbow Drive | +468 |
Toms Creek (Apple Pond) | At the confluence with Cane Creek (North) | +501 | Orange County (Unincorporated Areas).
| Approximately 1,800 feet upstream of Nicks Road | +558 |
Turkey Hill Creek | At the confluence with Cane Creek (North) | +511 | Orange County (Unincorporated Areas).
| Approximately 0.8 mile upstream of Private Road | +610 |
University Lake (Price Creek) | Entire shoreline within communities | +358 | Orange County (Unincorporated Areas), Town of Carrboro.
Watery Fork | At the confluence with Cane Creek (North) | +501 | Orange County (Unincorporated Areas).
| Approximately 250 feet upstream of Dairyland Road | +553 |
West Fork Eno River | Approximately 200 feet upstream of North Efland Cedar Grove Road | +592 | Orange County (Unincorporated Areas).
| Approximately 350 feet upstream of McDade Store Road | +672
West Fork Eno River Tributary 1 | Approximately 600 feet upstream of the confluence with Eno River | +579 | Orange County (Unincorporated Areas).
| Approximately 0.5 mile upstream of Harmony Church Road | +650 |
West Fork Eno River Tributary 2 | At the confluence with West Fork Eno River | +595 | Orange County (Unincorporated Areas).
| Approximately 1,500 feet upstream of Governor Scott Road | +623 |
West Fork Eno River Tributary 3 | At the confluence with West Fork Eno River | +643 | Orange County (Unincorporated Areas).
| Approximately 1.7 miles upstream of the confluence with West Fork Eno River | +681
Wildcat Branch | At the confluence with Collins Creek | +475 | Orange County (Unincorporated Areas).
| Approximately 1,250 feet upstream of Wildcat Creek Road | +506
*National Geodetic Vertical Datum
#Depth in feet above ground
+North American Vertical Datum
ADDRESSES:
Town of Carrboro:
Maps available for inspection at the Town of Carrboro Planning Department, 301 West Main Street, Carrboro, North Carolina.
Town of Chapel Hill:
Maps available for inspection at the Town of Chapel Hill Stormwater Management Program Office, 209 North Columbia Street, Chapel Hill, North Carolina.
Town of Hillsborough:
Maps available for inspection at the Hillsborough Town Hall, 101 East Orange Street, Hillsborough, North Carolina.
Orange County (Unincorporated Areas):
Maps available for inspection at the Orange County Planning and Inspections Department, 306F Revere Road, Hillsborough, North Carolina.

(Catalog of Federal Domestic Assistance No. 83.100, “Flood Insurance.”)

Dated: October 5, 2006.
David I. Maurstad,
Director, Mitigation Division, Federal Emergency Management Agency, Department of Homeland Security.

[FR Doc. E6-17261 Filed 10-16-06; 8:45 am]

BILLING CODE 9110-12-P